COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: August 10, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Additions

On April 25, 2025, the Committee for Purchase From People Who Are Blind or Severely Disabled (operating as the U.S. AbilityOne Commission) published an initial notice of proposed additions to the Procurement List. (90 FR 17423). The Committee determined that the service listed below is suitable for procurement by the Federal Government and has added this service to the Procurement List as a mandatory purchase for contracting activity listed. In accordance with 41 CFR 51-5.3(b), the mandatory purchase requirement is limited to the contracting activity at location listed, and in accordance with 41 CFR 51-5.2, the Committee has authorized nonprofit agency listed as the mandatory source of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Mailroom Operation

Mandatory for: US Air Force, Official Mail Center, Kirtland Air Force Base, NM

Mandatory for: US Air Force, Postal Service Center, Kirtland Air Force Base, NM

Authorized Source of Supply: VersAbility Resources, Inc., Hampton, VA

Contracting Activity: DEPT OF THE AIR FORCE, FA9401 AFNWC PZI

Deletions

On June 6, 2025 (90 FR 24103), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

NSN(s)—Product Name(s): 7920-01-383-7936—Sponge, Olive Drab

Authorized Source of Supply: Mississippi Industries For The Blind (INC), Jackson, MS

Contracting Activity: GSA/FSS GREATER SOUTHWEST ACQUISITI, FORT WORTH, TX

NSN(s)—Product Name(s):

5340-01-043-5409—Strap, Support, Assembly, Green, Ratchet Buckle, 1-¾″ W x 5′ L and 19′ L

5340-01-461-1429—Strap, Support, 1.5″ W x 23.5′ L

Authorized Source of Supply: Mississippi Industries For The Blind (INC), Jackson, MS

Contracting Activity: DLA TROOP SUPPORT, PHILADELPHIA, PA

NSN(s)—Product Name(s): 6850-01-598-1933—Ice Melt/De-Icer, 40 lbs.

Authorized Source of Supply: BOSMA Enterprises, Indianapolis, IN

Contracting Activity: DLA AVIATION, RICHMOND, VA

NSN(s)—Product Name(s):

7210-00-299-9611—Sheet, Bed

8455-01-078-0745—Scarf, Branch of Service, Unattached, USAF and USA, Woodland

8465-01-103-0659—Cover, Field Pack, 6-Color Desert Camouflage

8465-01-327-5361—Cover, Field Pack, 3-Color Desert Camouflage

Authorized Source of Supply: VisionCorps, Lancaster, PA

Contracting Activity: DLA TROOP SUPPORT, PHILADELPHIA, PA

NSN(s)—Product Name(s):

8465-01-103-0659—Cover, Field Pack, 6-Color Desert Camouflage

8465-01-327-5361—Cover, Field Pack, 3-Color Desert Camouflage

Authorized Source of Supply: Envision, Inc., Wichita, KS

Contracting Activity: DLA TROOP SUPPORT, PHILADELPHIA, PA

NSN(s)—Product Name(s):

8465-01-103-0659—Cover, Field Pack, 6-Color Desert Camouflage

8465-01-327-5361—Cover, Field Pack, 3-Color Desert Camouflage

Authorized Source of Supply: Central Association for the Blind and Visually Impaired, Utica, NY

Contracting Activity: DLA TROOP SUPPORT, PHILADELPHIA, PA

NSN(s)—Product Name(s):

8465-01-103-0659—Cover, Field Pack, 6-Color Desert Camouflage

8465-01-327-5361—Cover, Field Pack, 3-Color Desert Camouflage

Authorized Source of Supply: Lions Volunteer Blind Industries, Inc., Morristown, TN

Contracting Activity: DLA TROOP SUPPORT, PHILADELPHIA, PA

NSN(s)—Product Name(s): 8970-01-576-1950—Kit, Remote Feeding and Cleaning

Authorized Source of Supply: NEWVIEW Oklahoma, Inc, Oklahoma City, OK

Contracting Activity: DLA TROOP SUPPORT, PHILADELPHIA, PA

NSN(s)—Product Name(s): 6220-01-266-1651—Spotlight, .52 AMPS 28V BA15S bulb, yellow/white output, HMMWV

Authorized Source of Supply: Cincinnati Association For The Blind and Visually Impaired, Cincinnati, OH

Contracting Activity: DLA AVIATION, RICHMOND, VA

NSN(s)—Product Name(s):

8470-01-529-6602—Suspension Assembly, Ground Troop-Parachutist Helmet, Foliage Green, Large

8470-01-529-6609—Suspension Assembly, Ground Troop-Parachutist Helmet, Foliage Green, X-Large

8470-01-442-2969—New Cumberland

8470-01-092-7516—Suspension Assembly, Ground Troop, Parachutist, X-Small

8470-01-092-7517—Suspension Assembly, Ground Troop, Parachutist, Small

8470-01-092-7518—Suspension Assembly, Ground Troop, Parachutist, Medium

8470-01-092-7519—Suspension Assembly, Ground Troop, Parachutist, Large

Authorized Source of Supply: Winston-Salem Industries for the Blind, Inc, Winston-Salem, NC

Contracting Activity: DLA TROOP SUPPORT, PHILADELPHIA, PA

NSN(s)—Product Name(s): PSIN 38—Pouchfastener, Swivel Assembly

Authorized Source of Supply: Mississippi Industries For The Blind (INC), Jackson, MS Contracting Activity: U.S. Postal Service, Washington, DC, Washington, DC

Service(s)

Service Type: IT Services (also called EITS)

Mandatory for: Department of Defense, Defense Human Resources Activity, Defense Manpower Data Center, Alexandria, VA

Authorized Source of Supply: Global Connections to Employment, Inc.

Contracting Activity: General Services Administration Federal Acquisition Service, GSAFAS AAS Region 3, 473247QFMA

Service Type: Medical Transcription

Mandatory for: Department of Veterans Affairs, VA Loma Linda Healthcare System, 11201 Benton Street, Loma Linda, CA

Authorized Source of Supply: Goodwill Industries of San Antonio Contract Services, San Antonio, TX

Contracting Activity: VETERANS AFFAIRS, DEPARTMENT OF, 262-NETWORK CONTRACT OFFICE 22

Service Type: Janitorial/Custodial

Mandatory for: Department of Veterans Affairs, Greenville Outpatient Clinic, Greenville, SC

Contracting Activity: VETERANS AFFAIRS, DEPARTMENT OF, 247-NETWORK CONTRACT OFFICE 7

Service Type: Switchboard Operation

Mandatory for: Department of Veterans Affairs, Central Alabama Veterans Health Care System, Veterans Affairs Medical Center, Tuskegee, AL

Authorized Source of Supply: Bobby Dodd Institute, Inc., Atlanta, GA

Contracting Activity: VETERANS AFFAIRS, DEPARTMENT OF, 247-NETWORK CONTRACT OFC 7(00247)

Service Type: Janitorial Service

Mandatory for: U.S. Forest Service, McCloud Ranger Station, McCloud, CA; Mt. Shasta Ranger Station, Mt. Shasta, CA

Contracting Activity: FOREST SERVICE, USDA FOREST SERVICE

Service Type: Document Destruction Service

Mandatory for: US Department of Labor, Office of Workers' Compensation Programs, Charles Bennett Federal Building, Jacksonville, FL

Authorized Source of Supply: Challenge Enterprises of North Florida, Inc., Green Cove Springs, FL

Contracting Activity: Office of the Assistant Secretary For Administration and Management, DOL—CAS Division 3 Procurement

Service Type: Switchboard Operation

Mandatory for: Department of Veterans Affairs, Southeast Louisiana Veterans Healthcare System, New Orleans, LA

Authorized Source of Supply: Goodworks, Inc., New Orleans, LA

Contracting Activity: VETERANS AFFAIRS, DEPARTMENT OF, 256-NETWORK CONTRACT OFC 16(00256)

Service Type: Food Service Attendant

Mandatory for: US Navy, Naval Air Station Jacksonville, Flight Line Cafe, Jacksonville, FL

Authorized Source of Supply: GINFL Services, Inc., Jacksonville, FL

Contracting Activity: DEPT OF THE NAVY, NAVSUP FLT LOG CTR JACKSONVILLE

Service Type: Switchboard Operation

Mandatory for:

Department of Veterans Affairs, Veterans Affairs Medical Center, 1670 Clairmont Road, Decatur, GA

Department of Veterans Affairs, Veterans Affairs Medical Center, 200 East Ponce Deleon Avenue, Decatur, GA

Authorized Source of Supply: Bobby Dodd Institute, Inc., Atlanta, GA

Contracting Activity: VETERANS AFFAIRS, DEPARTMENT OF, 508-ATLANTA

Service Type: Switchboard Operation

Mandatory for: Department of Veterans Affairs, Carl Vinson VA Medical Center, Dublin, GA

Authorized Source of Supply: Bobby Dodd Institute, Inc., Atlanta, GA

Contracting Activity: VETERANS AFFAIRS, DEPARTMENT OF, 247-NETWORK CONTRACT OFC 7(00247)

Service Type: Grounds Maintenance

Mandatory for: US Army Reserve, Fort Douglas Cemetery, Salt Lake City, UT

Authorized Source of Supply: Columbus Foundation, Inc., Salt Lake City, UT

Contracting Activity: DEPT OF THE ARMY, W6QM MICC FT MCCOY (RC)

Service Type: Administrative Service

Mandatory for: Federal Trade Commission, Headquarters, Washington, DC

Authorized Source of Supply: Melwood Horticultural Training Center, Inc., Upper Marlboro, MD

Contracting Activity: FEDERAL TRADE COMMISSION, OFFICE OF ACQUISITION

Service Type: Switchboard Operation

Mandatory for: Department of Veterans Affairs, VA Palo Alto Health Care System, Palo Alto, CA

Contracting Activity: VETERANS AFFAIRS, DEPARTMENT OF, 261-NETWORK CONTRACT OFC21 (00261)

Service Type: Janitorial/Custodial

Mandatory for: USMA, Pershing Center, Buildings 2101, 2104 and 2107, West Point, NY

Authorized Source of Supply: Access: Supports for Living Inc., Middletown, NY

Contracting Activity: DEPT OF THE ARMY, W6QM MICC-WEST POINT

Service Type: Janitorial/Custodial

Mandatory for: Department of Veterans Affairs, Bakersfield Community Based Outpatient Clinic, Bakersfield, CA

Authorized Source of Supply: Bakersfield Arc, Inc., Bakersfield, CA

Contracting Activity: VETERANS AFFAIRS, DEPARTMENT OF, 262-NETWORK CONTRACT OFFICE 22

Service Type: Telephone Switchboard Operations

Mandatory for: Veterans Affairs Medical Center, Hampton, VA

Authorized Source of Supply: VersAbility Resources, Inc., Hampton, VA

Contracting Activity: VETERANS AFFAIRS, DEPARTMENT OF, 590-HAMPTON

Service Type: Medical Transcription

Mandatory for: Department of Veterans Affairs, VA Las Vegas Healthcare System, 6900 North Pecos Road, North Las Vegas, NV

Authorized Source of Supply: Goodwill Industries of San Antonio Contract Services, San Antonio, TX

Contracting Activity: VETERANS AFFAIRS, DEPARTMENT OF, 262-NETWORK CONTRACT OFFICE 22

Service Type: Mailroom Operation & Administrative Supp

Mandatory for: US Army, CCDC Aviation and Missile Center, Huntsville, AL

Authorized Source of Supply: Huntsville Rehabilitation Foundation, Inc., Huntsville, AL

Contracting Activity: DEPT OF THE ARMY, W6QK ACC-RSA

Michael R. Jurkowski,
Director, Business Operations.

[FR Doc. 2025-12836 Filed 7-9-25; 8:45 am]

BILLING CODE 6353-01-P